DEPARTMENT OF LABOR

Employment and Training Administration

Notice of Availability of Funds and Solicitation for Grant Applications for Cooperative Agreements Under the Disability Employment Initiative

AGENCY: Employment and Training Administration, Labor.

ACTION: Notice of Solicitation for Grant Applications (SGA).

Funding Opportunity Number: SGA/DFA PY 12-08.

SUMMARY: The Employment and Training Administration (ETA), in coordination with Department of Labor's (the Department or DOL) Office of Disability Employment Policy, announces the availability of approximately $18 million for a fourth round of cooperative agreements to state agencies that administer the Workforce Investment Act (WIA) of 1998. The Department expects to use this funding to award four (4) to eight (8) cooperative agreements to help states develop and implement plans for improving effective and meaningful participation of persons with disabilities in the workforce. These cooperative agreements will have a three (3) years and four (4) months period of performance. All job seekers and workers, including those with disabilities, will continue to have access to WIA-funded services through the public workforce system.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is June 4, 2013. Applications must be received no later than 4:00:00 p.m. Eastern Time.

FOR FURTHER INFORMATION CONTACT: Eileen Banks, 200 Constitution Avenue NW., Room N-4716, Washington, DC 20210; Telephone: 202-693-3403.

Signed April 16, 2013 in Washington, DC.
Donna Kelly,
Grant Officer, Employment and Training Administration.

[FR Doc. 2013-09560 Filed 4-23-13; 8:45 am]

BILLING CODE 4510-FN-P